EXPORT-IMPORT BANK

[Public Notice 2014-0017]

Application for Final Commitment for a Long-Term Loan or Financial Guarantee in Excess of $100 Million: AP088567XX

AGENCY: Export-Import Bank of the United States.

ACTION: Notice.

SUMMARY: This Notice is to inform the public, in accordance with Section 3(c)(10) of the Charter of the Export-Import Bank of the United States (“Ex-Im Bank”), that Ex-Im Bank has received an application for final commitment for a long-term loan or financial guarantee in excess of $100 million (as calculated in accordance with Section 3(c)(10) of the Charter). Comments received within the comment period specified below will be presented to the Ex-Im Bank Board of Directors prior to final action on this Transaction. Comments received will be made available to the public.

DATES: Comments must be received on or before June 16, 2014 to be assured of consideration before final consideration of the transaction by the Board of Directors of Ex-Im Bank.

ADDRESSES: Comments may be submitted through Regulations.gov at WWW.REGULATIONS.GOV. To submit a comment, enter EIB-2014-0017 under the heading “Enter Keyword or ID” and select Search. Follow the instructions provided at the Submit a Comment screen. Please include your name, company name (if any) and EIB-2014-0017 on any attached document.

Reference: AP088567XX.

Purpose and Use:

Brief description of the purpose of the transaction:

A direct loan to a United Kingdom-based company to support the procurement of one U.S. manufactured satellite.

Brief non-proprietary description of the anticipated use of the items being exported:

The loan will enable the United Kingdom-based company to finance the construction of one U.S. manufactured satellite. The satellite is expected to provide additional capacity to the British satellite telecommunications company to deliver seamless mobile satellite services to end-users worldwide.

To the extent that Ex-Im Bank is reasonably aware, the item(s) being exported are not expected to produce exports or provide services in competition with the exportation of goods or provision of services by a United States industry.

Parties:

Principal Supplier: Boeing Space and Intelligence Systems International Inc.

Obligor(s): Inmarsat Investment Limited; Inmarsat Global Limited, Inmarsat Leasing (Two) Limited; Inmarsat Ventures Limited; Inmarsat Group Limited; Inmarsat Launch Company Limited; Inmarsat Solutions (Canada) Inc.; Inmarsat Solutions B.V. (Netherlands); and Inmarsat S.A. (Switzerland).

Guarantor(s): Inmarsat Global Limited, Inmarsat Leasing (Two) Limited; Inmarsat Ventures Limited; Inmarsat Group Limited; Inmarsat Launch Company Limited; Inmarsat Solutions (Canada) Inc.; Inmarsat Solutions B.V. (Netherlands); and Inmarsat S.A. (Switzerland).

Description of Items Being Exported:

To finance the construction of one U.S. manufactured satellite.

Information on Decision: Information on the final decision for this transaction will be available in the “Summary Minutes of Meetings of Board of Directors” on http://exim.gov/newsandevents/boardmeetings/board/.

Confidential Information: Please note that this notice does not include confidential or proprietary business information; information which, if disclosed, would violate the Trade Secrets Act; or information which would jeopardize jobs in the United States by supplying information that competitors could use to compete with companies in the United States.

Cristopolis Dieguez,
Business Compliance Analyst, Office of the General Counsel.

[FR Doc. 2014-11557 Filed 5-19-14; 8:45 am]

BILLING CODE 6690-01-P